DEPARTMENT OF THE INTERIOR

Bureau of Land Management

DEPARTMENT OF AGRICULTURE

Forest Service

[CA-668-03-1610-DQ]

Notice of Availability of the Approved Santa Rosa and San Jacinto Mountains National Monument Final Management Plan and Record of Decision

AGENCIES: Bureau of Land Management, Interior, and Forest Service, USDA.

ACTION: Notice of availability of the approved Santa Rosa and San Jacinto Management Plan and Record of Decision.

SUMMARY: In compliance with the Santa Rosa and San Jacinto Mountains National Monument Act of 2000 (Pub. L. 106-351), the Bureau of Land Management and Forest Service approved the Santa Rosa and San Jacinto Mountains National Monument Management Plan and issued a Record of Decision on February 6, 2004. This Management Plan and Record of Decision is a cooperative effort between the Department of the Interior, BLM, and the Department of Agriculture, Forest Service. The 272,000-acre National Monument encompasses 86,400 acres of BLM lands and 64,400 acres of Forest Service lands in the Coachella Valley and surrounding mountains. Additional land managing entities within the National Monument include the Agua Caliente Band of Cahuilla Indians, the California Department of Parks and Recreation, the California Department of Fish and Game, Riverside County, local jurisdictions, and private landowners. The management plan provides direction for coordination between the BLM, Forest Service, and various partners and outlines proposed strategies for protecting the values that the National Monument was established to protect.

DATES: The Approved Santa Rosa and San Jacinto Mountains National Monument Management Plan became effective on approval of the ROD.

FOR FURTHER INFORMATION CONTACT: Copies of the Approved Management Plan and Record of Decision are available for public inspection at the BLM Palm Springs-South Coast Field Office, P.O Box 581260, 690 W. Garnet Avenue, North Palm Springs, CA 92258. Interested persons may also review the Approved Management Plan and Record of Decision on the Internet at http://www.ca.blm.gov/palmsprings. Copies may be requested by contacting Greg Hill at the above address, or at Phone Number: 760-251-4800.

SUPPLEMENTARY INFORMATION: The Santa Rosa and San Jacinto Mountains National Monument was established by Pub. L. 106-351 and will be cooperatively managed by the BLM and the Forest Service. The Santa Rosa and San Jacinto Mountains National Monument Act of 2000 affects only Federal lands and Federal interests located within the established boundaries. The BLM and the Forest Service will jointly manage Federal lands in the National Monument in coordination with the Agua Caliente Band of Cahuilla Indians, other Federal agencies, State agencies, and local governments.

Dated: February 4, 2004.
Danella George,
Santa Rosa and San Jacinto Mountains, National Monument Manager.
Dated: February 5, 2004.
Gene Zimmerman,
San Bernardino National Forest, Forest Supervisor.

[FR Doc. 04-7826 Filed 4-8-04; 8:45 am]

BILLING CODE 4310-40-P